FEDERAL COMMUNICATIONS COMMISSION

[OMB 3060-1185; FR ID 74457]

Information Collection Being Reviewed by the Federal Communications Commission Under Delegated Authority

AGENCY: Federal Communications Commission.

ACTION: Notice and request for comments.

SUMMARY: As part of its continuing effort to reduce paperwork burdens, and as required by the Paperwork Reduction Act (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written comments should be submitted on or before May 6, 2022. If you anticipate that you will be submitting comments but find it difficult to do so within the time period allowed by this notice, you should advise the contacts below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION: OMB Control Number: 3060-1184.

Title: Sections 1.946(d), 27.10(d), 27.12, 27.14 and 27.17, Service Rules for the Advanced Wireless Services H Block—Implementing Section 6401 of the Middle Class Tax Relief and Job Creation Act of 2012 Related to the 1915-1920 MHz and 1995-2000 MHz Bands—R&O, FCC 13-88.

Form Number: N/A.

Type of Review: Extension of a currently approved collection.

Respondents: Business or other for-profit entities.

Number of Respondents: 1 respondent; 352 responses.

Estimated Time per Response: 1 hour.

Frequency of Response: On occasion reporting requirement and at the end of the license term for incumbent licensees.

Obligation to Respond: Statutory authority for this collection are contained in sections 15 U.S.C. 79 et seq.; 47 U.S.C. 151, 154(i), 154(j), 155, 157, 225, 227, 303(r), 309, 310, 1404, and 145.

Total Annual Burden: 352 hours.

Total Annual Cost: No cost.

Needs and Uses: On June 27, 2013, the FCC adopted: Service Rules for the Advanced Wireless Services H Block—Implementing Section 6401 of the Middle Class Tax Relief and Job Creation Act of 2012 Related to the 1915-1920 MHz and 1995-2000 MHz Bands, WT Docket 12-357, Report and Order, 28 FCC Rcd 9483 (2013) (H Block R&O). The H Block R&O adopted service rules for the H Block and makes available 10 MHz of paired spectrum for flexible use in accordance with the Middle Class Tax Relief and Job Creation Act of 2012. The H Block R&O contained the following information collection requirements which have already been approved by OMB.

For the purpose of this collection, a winning bidder of H Block spectrum must comply with each of the following rule sections:

(a) Section 1.946(d) requires H Block licensees to file a construction notification and certify that they have met the applicable performance benchmarks.

(b) Section 27.10(d) requires an H Block licensee to notify the Commission within 30 days if it changes, or adds to, the carrier status on its license.

(c) Section 27.12 requires H Block licensees to comply with certain eligibility reporting requirements.

(d) Section 27.14 requires H Block licensees to file license renewal applications. Included in the application should be a detailed description of: (1) The level and quality of service provided by the applicant; (2) the date service commenced; (3) whether service was ever interrupted; (4) the duration of any interruption or outage; (5) the extent to which service is provided to rural areas; (6) the extent to which service is provided to qualifying Tribal lands; and (7) any other factors associated with the level of service to the public.

(e) Section 27.17 requires H Block licensees to notify the Commission within ten days if they permanently discontinue service by filing FCC Form 601 or 605 and requesting license cancellation.

Federal Communications Commission.
Marlene Dortch,
Secretary.

[FR Doc. 2022-04660 Filed 3-4-22; 8:45 am]

BILLING CODE 6712-01-P